DEPARTMENT OF TRANSPORTATION

Maritime Administration

[Docket No: MARAD-2001-10903]

Commercial War Risk Hull and Protection and Indemnity Insurance on Title XI Mortgaged Vessels Operated Exclusively on the Inland Rivers and Intercoastal Waterways of the United States and on the Great Lakes

AGENCY: Maritime Administration, Transportation.

ACTION: Policy Review with request for comments.

DATES: Interested parties are requested to submit comments on or before November 13, 2001.

FOR FURTHER INFORMATION CONTACT: Edmond J. Fitzgerald, U.S. Department of Transportation, Maritime Administration, Director, Office of Insurance and Shipping Analysis, Telephone (202) 366-2400, Room 8117, 400 Seventh Street, SW., Washington, DC 20590.

Comments regarding this policy review should refer to the docket number that appears at the top of this document. Written comments may be submitted to the Docket Clerk, U.S. DOT Dockets, Room PL-401, 400 Seventh Street, SW., Washington, DC 20590. {Due to current U.S. Postal Service (U.S.P.S.) delivery problems in Washington, DC, commenters are urged to use one of the following: mail via non-U.S.P.S. delivery service (e.g. FedEx, UPS, DHL etc.); or fax their comment to MARAD at 202/366-9206; or use electronic filing as explained below}. Comments may also be submitted by electronic means via the Internet at http://dmses.dot.gov/submit. All comments received will be available for examination at the above address between 10 a.m. and 5 p.m. EST, Monday through Friday, except Federal holidays. An electronic version of this document is available on the World Wide Web at http://dms.dot.gov.

SUPPLEMENTARY INFORMATION: Some experts are predicting a possible marine threat, either as a means or as a target or both, if another terrorist attack were to occur against the U.S. In light of this and the September 11th events, the Maritime Administration (MARAD, we, our, or us) believes it should revisit the existing inland/Great Lakes war risk insurance waiver policy and requests public comment on whether we should change our current waiver policy. We have the authority to rescind or revise the existing waiver policy and to impose the full war risk cover on all Title XI vessels if we determine that it is now necessary.

Currently, we waive the Security Agreement requirement for commercial war risk hull and Protection and Indemnity insurance on Title XI mortgaged vessels, which are operated exclusively on the inland rivers and intercoastal waterways of the United States and on the Great Lakes. This policy was approved by the Assistant Secretary of Commerce for Maritime Affairs on June 30, 1971, and has remained in effect ever since. Most Title XI companies operating exclusively inland or on the Great Lakes have taken advantage of this waiver. MARAD estimates that approximately 20 companies with over 500 vessels (including a large number of inland barges) are not insured for war risks.

The standard war risk insurance policy covers a number of non-marine perils risks, including warlike operations, strikes, civil unrest and acts of terrorism. The basic underlying assumption for the war risk waiver for inland/Great Lakes was that the threat of attack within the continental 48 states or Great Lakes was very slight. Events of September 11, 2001, have called this basic assumption into question.

As a consequence, we may begin to require that some or all of the inland Title XI vessels have war risk cover. We may not require war risk cover for all inland Title XI vessels because significant groups or fleets of inland barges are widely dispersed on the inland waters at any point in time. This wide distribution limits our inland/Great Lakes Title XI exposure. Therefore, the risk of a significant loss from any one event or target may be relatively small.

Dated: October 25, 2001.
By Order of the Acting Deputy Maritime Administrator.
Joel C. Richard,
Secretary, Maritime Administration.

[FR Doc. 01-27276 Filed 10-29-01; 8:45 am]

BILLING CODE 4910-81-P